DEPARTMENT OF THE INTERIOR

National Park Service

Notice of Availability of a Record of Decision for the Selma to Montgomery National Historic Trail Comprehensive Management Plan and Final Environmental Impact Statement

SUMMARY: Pursuant to section 102(2)(C) of the National Environmental Policy Act of 1969, the National Park Service (NPS) announces the availability of the Record of Decision (ROD) for the Selma to Montgomery National Historic Trail Comprehensive Management Plan and Final Environmental Impact Statement (CMP/EIS). The ROD provides the background of the CMP/EIS, other alternatives considered, the basis for the decision, the environmentally preferable alternative, and public involvement in the decision-making process. The ROD was approved by the Southeast Regional Director on August 30, 2005. The CMP/EIS provides a framework for the management, use, and development of the National Historic Trail by the NPS and its partners over the next 15 to 20 years. Beginning at Brown Chapel AME Church in Selma, Alabama, the trail follows the route of the March 1965 Selma to Montgomery voting rights march, traveling through Lowndes County along U.S. Highway 80, and ending at the Alabama State Capitol in Montgomery. The CMP/EIS describes four management alternatives for consideration and analyzes the environmental impacts of those alternatives. As soon as practicable, the NPS will begin to implement the plan and the preferred alternative, known as Alternative C. Of the four alternatives presented in the plan, Alternative C stresses the broadest range of interpretive themes relating to the events of March 1965 and provides an extensive plan for resource preservation, protection, and commemoration. Among its priorities is the coordinated protection of historically intact viewsheds along US Highway 80, the most extensive certification of commemorative sites and streetscapes, design proposals for new park spaces, and marked walking and biking rails. Alternative C also outlines a strategy for establishing interpretive centers and development of corresponding interpretive programs in Selma, Montgomery, and Lowndes County.

DATES: The ROD was signed by the Southeast Regional Director on August 30, 2005.

ADDRESSES: Copies of the ROD are available by contacting John Barrett, National Park Service, 100 Alabama St., SW., Atlanta, GA 30303. An electronic copy of the ROD is available on the Internet at http://www.nps.gov/sero/planning/semo_cmp/semo_cmpdraft.htm.

FOR FURTHER INFORMATION CONTACT: John Barrett, 404-562-3124, extension 637.

The responsible official for the ROD and the CMP/EIS is Patricia A. Hooks, Regional Director, Southeast Region, National Park Service, 100 Alabama Street SW., 1924 Building, Atlanta, Georgia 30303.

Dated: September 21, 2005.
Patricia A. Hooks,
Regional Director, Southeast Region.

[FR Doc. 05-22947 Filed 11-18-05; 8:45 am]

BILLING CODE 4310-52-M